DEPARTMENT OF COMMERCE

Foreign-Trade Zones Board

[B-14-2019]

Foreign-Trade Zone (FTZ) 124—Gramercy, Louisiana; Authorization of Production Activity; Offshore Energy Services, Inc. (Casing Pipe With Connectors), Broussard, Louisiana

On March 12, 2019, Port of South Louisiana, grantee of FTZ 124, submitted a notification of proposed production activity to the FTZ Board on behalf of Offshore Energy Services, Inc., within FTZ 124, in Broussard, Louisiana.

The notification was processed in accordance with the regulations of the FTZ Board (15 CFR part 400), including notice in the Federal Register inviting public comment (84 FR 10031, March 19, 2019). On July 10, 2019, the applicant was notified of the FTZ Board's decision that no further review of the activity is warranted at this time. The production activity described in the notification was authorized, subject to the FTZ Act and the FTZ Board's regulations, including Section 400.14.

Dated: July 10, 2019.
Andrew McGilvray,
Executive Secretary.

[FR Doc. 2019-14962 Filed 7-12-19; 8:45 am]

BILLING CODE 3510-DS-P